DEPARTMENT OF THE DEFENSE

Department of the Army

Notice To Seek Licensing Partners for Psuedo-Monolithic Laser With an Intracavity Optical Parametric Oscillator

AGENCY: U.S. Army, DoD.

ACTION: Notice of intent.

SUMMARY: The U.S. Army CERDEC's Night Vision & Electronic Sensors Directorate (NVESD) has filed for a patent on a Pseudo-Monolithic Laser with an Intracavity Optical Parametric Oscillator. This is to announce that we are now seeking licensing partners for this technology, which has direct applications to military rangefinders as well as other commercial purposes. The laser was designed for simplicity and has no moving parts and few optical components. It can be tuned/manufactured to laze at three discrete frequencies. The design makes innovative use of existing flash bulb circuitry found in disposable cameras as the power source for the devices. The design is exceptionally small and compact. There is a plan for initial procurement of rangefinders utilizing this laser which will be announced separately. Other uses of this device include: ophthalmology applications; due to the precision of the beam it may also lend itself to applications in computer chip processing; and applications in surveying instruments. Due to the numerous applications of this technology the NVESD invites companies to consider Cooperative Research and Development Agreements for developing applications of this technology to their product lines. A preliminary design review package and license application for the required patent is available from NVESD. If interested please request information and respond with the required documents within 30 days.

FOR FURTHER INFORMATION CONTACT: Karen Gordon, U.S. Army (CERDEC) Night Vision & Electronic Senors Directorate, ATTN: AMSEL-RD-NV-OPS, 10221 Burbeck Road, Fort Belvoir, Virginia 22060-5806, Telephone: (703) 704-2279.

SUPPLEMENTARY INFORMATION: None.

Gregory D. Showalter,
Army Federal Register Liaison Officer.

[FR Doc. 00-8675 Filed 4-6-00; 8:45 am]

BILLING CODE 3710-08-M